DEPARTMENT OF THE INTERIOR

Bureau of Land Management

[BLM_NV_FRN_MO4500173630]

Notice of Extension of Segregation of Public Lands for the Copper Rays Solar Project, Nye County, NV

AGENCY: Bureau of Land Management, Interior.

ACTION: Notice of segregation extension.

SUMMARY: The Bureau of Land Management (BLM) on October 21, 2021, segregated public lands included in the right-of-way application (N-089655) for the Copper Rays Solar Project from appropriation under the public land laws, including the Mining Law, but not the Mineral Leasing or Material Sales Acts, for a period of 2 years subject to valid existing rights. This 2-year extension of the segregation is necessary for the orderly administration of the public lands in order to allow the BLM to complete review of the Copper Rays Solar Project application and reach a decision on the application.

DATES: This segregation extension for the lands identified in the notice of segregation published in the Federal Register on October 21, 2021 (86 FR 58301) takes effect on October 21, 2023.

FOR FURTHER INFORMATION CONTACT: For further information and/or to have your name added to the project mailing list, send requests to: Whitney Wirthlin, Southern Nevada District Energy and Infrastructure Team, at telephone (702) 515-5284; address 4701 North Torrey Pines Drive, Las Vegas, NV 89130-2301; or email BLM_NV_SND_EnergyProjects@blm.gov. Individuals in the United States who are deaf, deafblind, hard of hearing, or have a speech disability may dial 711 (TTY, TDD, or TeleBraille) to access telecommunications relay services for contacting Whitney Wirthlin. Individuals outside the United States should use the relay services offered within their country to make international calls to the point-of contact in the United States.

SUPPLEMENTARY INFORMATION: This notice extends the segregation published in the Federal Register on October 21, 2021 (86 FR 58301) for an additional 2 years. Copper Rays Solar, LLC, a subsidiary of Leeward Renewable Energy, LLC, submitted a right-of-way application to the BLM Pahrump Field Office for the Copper Rays Solar Project requesting authorization to construct, operate, maintain, and eventually decommission a 700-megawatt photovoltaic solar electric generating facility, battery storage facilities, associated generation tie-line, and access road facilities.

The BLM has made substantial progress in the review of the Copper Rays Solar Project right-of-way application; however, the BLM needs additional time to complete the review and make a decision on the application. The BLM completed the application evaluation determination process required by regulations found at 43 CFR part 2800 and determined it was appropriate to continue processing the application. On November 14, 2022, the BLM published a Notice of Intent to Amend the Las Vegas Resource Management Plan and Prepare an Environmental Impact Statement for the Proposed Copper Rays Solar Project in Nye County, Nevada in the Federal Register (87 FR 68187). The BLM is currently preparing the Draft Resource Management Plan Amendment/Environmental Impact Statement.

Authority: 43 CFR 2091.3-1(e) and 43 CFR 2804.25(f).

Jon K. Raby,
Nevada State Director.

[FR Doc. 2023-23350 Filed 10-19-23; 8:45 am]

BILLING CODE 4331-21-P